DEPARTMENT OF HOMELAND SECURITY

Coast Guard

33 CFR Part 165

[Docket No. USCG-2009-0391]

RIN 1625-AA00

Safety Zone; Chicago Harbor, Navy Pier Southeast, Chicago, IL

AGENCY: Coast Guard, DHS.

ACTION: Notice of enforcement of regulation.

SUMMARY: The Coast Guard will enforce the Navy Pier Southeast Safety Zone in Chicago Harbor from May 2009 through June 2009. This action is necessary protect vessels and people from the hazards associated with fireworks displays. During the enforcement period, no person or vessel may enter the security zone without the permission of the Captain of the Port Lake Michigan Zone.

DATES: The regulations in § 165.931 will be enforced from May 23, until June 27, 2009.

FOR FURTHER INFORMATION CONTACT: If you have questions on this notice, call or e-mail BM2 Kraft, Prevention Department, Coast Guard Sector Lake Michigan, Milwaukee, WI at (414) 747-7154, e-mail adam.d.kraft@uscg.mil.

SUPPLEMENTARY INFORMATION: The Coast Guard will enforce the Safety Zone; Chicago Harbor, Navy Pier Southeast, Chicago, IL in 33 CFR 165.931 for the following events during the dates and times indicated below:

(1) Navy Pier Sunday Fireworks; on May 24, 2009 from 9:15 p.m. through 9:45 p.m.

(2) Navy Pier Wednesday Fireworks; on May 27, 2009 from 9:15 p.m. through 9:45 p.m.; on June 3, 2009 from 9:15 p.m. through 9:45 p.m.; on June 10, 2009 from 9:15 p.m. through 9:45 p.m.; on June 17, 2009 from 9:15 p.m. through 9:45 p.m.; on June 24, 2009 from 9:15 p.m. through 9:45 p.m.

(3) Navy Pier Saturday Fireworks; on May 23, 2009 from 10 p.m. through 10:40 p.m.; on May 30, 2009 from 10 p.m. through 10:40 p.m.; on June 6, 2009 from 10 p.m. through 10:40 p.m.; on June 13, 2009 from 10 p.m. through 10:40 p.m.; on June 20, 2009 from 10 p.m. through 10:40 p.m.; on June 27, 2009 from 10 p.m. through 10:40 p.m.

All vessels must obtain permission from the Captain of the Port or his designated representative to enter, move within or exit the safety zone. Vessels and persons granted permission to enter the safety zone shall obey all lawful orders or directions of the Captain of the Port or a designated representative. While within a safety zone, all vessels shall operate at the minimum speed necessary to maintain a safe course.

This notice is issued under authority of 33 CFR 165.931 Safety Zone, Chicago Harbor, Navy Pier Southeast, Chicago, IL. (published on June 13, 2007 at 72 FR 32520) and 5 U.S.C. 552 (a). In addition to this notice in the Federal Register, the Coast Guard will provide the maritime community with advance notification of these enforcement periods via broadcast Notice to Mariners or Local Notice to Mariners. The Captain of the Port will also issue a Broadcast Notice to Mariners notifying the public when enforcement of the safety zone established by this section is suspended. The Captain of the Port may be contacted via U.S. Coast Guard Sector Lake Michigan on channel 16, VHF-FM.

Dated: May 14, 2009.
Bruce C. Jones,
Captain, U.S. Coast Guard, Captain of the Port Lake Michigan.

[FR Doc. E9-12602 Filed 5-28-09; 8:45 am]

BILLING CODE 4910-15-P